NUCLEAR REGULATORY COMMISSION

Advisory Committee on Reactor Safeguards; Meeting Notice

In accordance with the purposes of Sections 29 and 182b of the Atomic Energy Act (42 U.S.C. 2039, 2232b), the Advisory Committee on Reactor Safeguards will hold a meeting on September 5-8, 2001, in Conference Room T-2B3, 11545 Rockville Pike, Rockville, Maryland.

Wednesday, September 5, 2001

8:30 a.m.-8:35 a.m.: Opening Remarks by the ACRS Vice Chairman (Open)—The ACRS Vice Chairman will make opening remarks regarding the conduct of the meeting.

8:35 a.m.-10:00 a.m.: Duane Arnold Core Power Uprate (Open)—The Committee will hear presentations by and hold discussions with representatives of the NRC staff and the Alliant Energy regarding the license amendment request submitted by the Alliant Energy to increase the core thermal power by 15.3% above the current licensed value for the Duane Arnold Energy Center and the associated staff's safety evaluation report.

10:20 a.m.-12:00 Noon: EPRI Report on Resolution of Generic Letter 96-06 Waterhammer Issues (Open)—The Committee will hear presentations by and hold discussions with representatives of the NRC staff and the Electric Power Research Institute (EPRI) regarding the EPRI Report, TR-113594, “Resolution of Generic Letter 96-06 Waterhammer Issues.”

1:00 p.m.-2:30 p.m.: Reactor Oversight Process (Open)—The Committee will hear presentations by and hold discussions with representatives of the NRC staff regarding the use of performance indicators in the reactor oversight process, initial implementation of the significance determination process (SDP), and technical adequacy of the SDP to contribute to the reactor oversight process.

2:50 p.m.-4:00 p.m.: Proposed Update to 10 CFR 52, “Early Site Permits; Standard Design Certification; and Combined Licenses for Nuclear Power Plants” (Open)—The Committee will hear presentations by and hold discussions with representatives of the NRC staff regarding proposed update to 10 CFR Part 52.

4:20 p.m.-7:00 p.m.: Discussion of Proposed ACRS Reports (Open)—The Committee will discuss proposed ACRS reports on matters considered during this meeting.

Thursday, September 6, 2001

8:30 a.m.-8:35 a.m.: Opening Remarks by the ACRS Chairman (Open)—The ACRS Chairman will make opening remarks regarding the conduct of the meeting.

8:35 a.m.-9:00 a.m.: Peer Review of PRA Certification Process (Open)—The Committee will hear a report from Mr. Markley, ACRS Senior Staff Engineer, regarding the application of the PRA certification process described in NEI 00-02, “Probabilistic Risk Assessment (PRA) Peer Review Process Guidance,” for the North Anna Power Station that was conducted by the Westinghouse Owners Group and discussed with the licensee on July 16-20, 2001, in Richmond, Virginia.

9:00 a.m.-10:00 a.m.: Meeting with the NRC Commissioner Merrifield (Open)—The Committee will meet with the NRC Commissioner Merrified to discuss items of mutual interest.

10:20 a.m.—12:00 Noon: Proposed Resolution of Generic Safety Issue (GSI)-191, “Assessment of Debris Accumulation on PWR Sump Pump Performance” (Open)—The Committee will hear presentations by and hold discussions with representatives of the NRC staff regarding the proposed resolution of GSI-191.

1:00 p.m.-2:30 p.m.: TRACG Best-Estimate Thermal-Hydraulic Code (Open/Closed)—The Committee will hear presentations by and hold discussions with representatives of the NRC staff regarding the General Electric TRACG best-estimate large-break loss-of-coolant accident code.

Note: A portion of this session may be closed to discuss General Electric Proprietary Information.

2:45 p.m.-3:30 p.m.: Proposed Final Revision to Regulatory Guide 1.78 (DG-1089), “Main Control Room Habitability During a Postulated Hazardous Chemical Release” (Open)—The Committee will hear presentations by and hold discussions with representatives of the NRC staff regarding the proposed final revision to Regulatory Guide 1.78.

3:30 p.m.-7:00 p.m.: Discussion of Proposed ACRS Reports (Open)—The Committee will discuss proposed ACRS reports.

Friday, September 7, 2001

8:30 a.m.-8:35 a.m.: Opening Remarks by the ACRS Chairman (Open)

8:35 a.m.-9:30 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

9:30 a.m.-9:45 a.m.: Reconciliation of ACRS Comments and Recommendations (Open)—The Committee will discuss the responses from the NRC Executive Director for Operations (EDO) to comments and recommendations included in recent ACRS reports and letters. The EDO responses are expected to be made available to the Committee prior to the meeting.

10:00 a.m.-6:00 p.m.: Discussion of Proposed ACRS Reports (Open)—The Committee will continue its discussion of proposed ACRS reports.

Saturday, September 8, 2001

8:30 a.m.-11:30 a.m.: Discussion of Proposed ACRS Reports (Open)—The Committee will continue its discussion of proposed ACRS reports.

11:30 a.m.-12:00 Noon: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff. Persons desiring to make oral statements should notify Dr. Sher Bahadur, ACRS, five days before the meeting, if possible, so that appropriate arrangements can be made to allow necessary time during the meeting for such statements. Use of still, motion picture, and television cameras during the meeting may be limited to selected portions of the meeting as determined by the Chairman. Information regarding the time to be set aside for this purpose may be obtained by contacting Dr. Sher Bahadur prior to the meeting. In view of the possibility that the schedule for ACRS meetings may be adjusted by the Chairman as necessary to facilitate the conduct of the meeting, persons planning to attend should check with Dr. Sher Bahadur if such rescheduling would result in major inconvenience.

In accordance with subsection 10(d) Public Law 92-463, I have determined that it is necessary to close portions of this meeting noted above to discuss proprietary information per 5 U.S.C. 552b(c)(4).

Further information regarding topics to be discussed, whether the meeting has been canceled or rescheduled, the Chairman's ruling on requests for the opportunity to present oral statements, and the time allotted therefor can be obtained by contacting Dr. Sher Bahadur (telephone 301-415-0138), between 7:30 a.m. and 4:15 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment facilities that they use to establish the videoteleconferencing link. The availability of videoteleconferencing services is not guaranteed.

Dated: August 3, 2001.
Andrew L. Bates,
Advisory Committee Management Officer.

[FR Doc. 01-19980 Filed 8-8-01; 8:45 am]

BILLING CODE 7590-01-P